DEPARTMENT OF HOMELAND SECURITY

Coast Guard

33 CFR Part 100

[Docket Number USCG-2025-0325]

RIN 1625-AA08

Special Local Regulation; Atlantic Ocean, Atlantic City, NJ

AGENCY: Coast Guard, DHS.

ACTION: Temporary final rule.

SUMMARY: The Coast Guard is establishing a temporary special local regulation for the navigable waters of the Atlantic Ocean, near Atlantic City, NJ. This action is needed to provide for the safety of life on these navigable waters during an offshore boat race on June 8, 2025. This rule prohibits persons and vessels from being in the regulated area during the enforcement periods unless authorized entry by the Captain of the Port, Sector Delaware Bay, or a designated representative.

DATES: This rule is effective from 10 a.m. until 6 p.m. on June 8, 2025.

ADDRESSES: To view documents mentioned in this preamble as being available in the docket, go to https://www.regulations.gov, type USCG-2025-0325 in the search box and click “Search.” Next, in the Document Type column, select “Supporting & Related Material.”

FOR FURTHER INFORMATION CONTACT: If you have questions about this rule, call or email MST1 Dylan Caikowski, Waterways Management Division, Sector Delaware Bay, U.S. Coast Guard; telephone (206) 815-6688, option 3; email SecDelBayWWM@uscg.mil.

SUPPLEMENTARY INFORMATION:

I. Table of Abbreviations

CFR Code of Federal Regulations

COTP Captain of the Port, Sector Delaware Bay

DHS Department of Homeland Security

FR Federal Register

NPRM Notice of proposed rulemaking

PATCOM Patrol Commander

§ Section

U.S.C. United States Code

II. Background Information and Regulatory History

The sponsor of an organized water event which is conducted according to a prearranged schedule and which, by its nature, circumstances or location, will introduce extra or unusual hazards to the safety of life on the navigable waters of the United States must submit an application for a permit to the Coast Guard. 33 CFR 100.15. A Captain of the Port, after approving plans for the holding of such a marine event within his or her district or zone, is authorized to promulgate such special local regulations as he or she deems necessary to ensure the safety of life on the navigable waters immediately prior to, during and immediately after the approved event. 33 CFR 100.35.

The Captain of the Port, Sector Delaware Bay (COTP) has received an application under 33 CFR 100.15 for a permit to host an offshore boat race on June 8, 2025. The event will have 40 participating vessels and approximately 25 spectating vessels.

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it is impracticable to do so. There is insufficient time to notice the rule, allow for a reasonable comment period, and publish a rule, given that the rule must be in force by June 8, 2025, to serve its purpose. In addition, and on the basis of impracticability for lack of time as well, the Coast Guard finds that good cause exists under 5 U.S.C. 553(d)(3) for making this rule effective less than 30 days after publication in the Federal Register.

III. Legal Authority and Need for Rule

The Coast Guard is issuing this rule under authority in 46 U.S.C. 70041. The COTP has determined that the offshore boat race could pose a risk to participants or waterway users if normal vessel traffic were allowed to interfere with the event. Possible hazards include risks of participant injury or death from near or actual collisions with non-participant vessels traversing through the regulated area.

IV. Discussion of the Rule

This rule establishes a special local regulation from 10 a.m. until 6 p.m. on June 8, 2025, to protect non-participants and participants in an offshore boat race. The regulated area covers all navigable waters of Atlantic Ocean near Atlantic City, NJ, within a polygon bounded by the following: originating on the shore line at approximate position latitude 39°21′51″ N longitude 074°24′26″ W; thence southeast to approximate position 39°20′43″ N longitude 074°24′04″ W; thence southwest to approximate position to latitude 39°20′03″ N, longitude 074°26′29″ W; thence northwest to the shoreline at approximate position latitude 39°20′49″ N, longitude 074°27′05″ W; thence northeast along the shoreline to the point of origin.

Inside of the regulated area detailed above there is a spectator area reserved for non-participant vessels to watch the event. The spectator area is within a polygon bounded by the following: beginning at approximate position latitude 39°20′45″ N, longitude 074°25′33″ W; thence northeast to approximate position latitude 39°21′00″ N, longitude 074°24′44″ W; thence southeast to approximate position latitude 39°20′50″ N, longitude 074°24′39″ W; thence southwest to approximate position latitude 39°20′35″ N, longitude 074°25′28″ W; thence northwest to the point of origin.

The duration of the zone is intended to ensure the safety of participants and other waterway users before, during, and after the scheduled offshore boat race. No vessel or person will be permitted to enter the regulated area without obtaining permission from the COTP or a designated representative.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, this rule has not been reviewed by the Office of Management and Budget (OMB).

This regulatory action determination is based on the size and duration of the regulated area, which would impact a small, designated area of the Atlantic Ocean. Vessels will be able to safely transit around the regulated area during the enforcement period. The Coast Guard will provide advance notification of the special local regulation to the local maritime community by Local Notice to Mariners and Broadcast Notice to Mariners.

B. Impact on Small Entities

The regulatory flexibility analysis provisions of the Regulatory Flexibility Act of 1980, 5 U.S.C. 601-612, as amended, do not apply this rule. They do not apply because this rule fits a 5 U.S.C. 553(b)(B) good-cause exception for notice-and-comment rulemaking. Therefore, we were not required to publish a notice of proposed rulemaking.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a special local regulation lasting approximately 8 hours that will prohibit or restrict vessels entry within the regulated area during an offshore boat race. It is categorically excluded from further review under paragraph L61 of Appendix A, Table 1 of DHS Instruction Manual 023-01-001-01, Rev. 1. A Record of Environmental Consideration supporting this determination is available in the docket. For instructions on locating the docket, see the ADDRESSES section of this preamble.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T599-0325 to read as follows:

§ 100.T599-0325 Special Local Regulation; Atlantic Ocean, Atlantic City, NJ.

(a) Regulated area. All navigable waters of Atlantic Ocean near Atlantic City, NJ, within a polygon bounded by the following: originating on the shore line at approximate position latitude 39°21′51″ N longitude 074°24′26″ W; thence southeast to approximate position 39°20′43″ N longitude 074°24′04″ W; thence southwest to approximate position to latitude 39°20′03″ N, longitude 074°26′29″ W; thence northwest to the shoreline at approximate position latitude 39°20′49″ N, longitude 074°27′05″ W; thence northeast along the shoreline to the point of origin. These coordinates are based on World Geodetic System (WGS 84).

(1) Spectator area. All navigable waters of Atlantic Ocean near Atlantic City, NJ, within a polygon inside the regulated area bounded by the following: beginning at approximate position latitude 39°20′45″ N, longitude 074°25′33″ W; thence northeast to approximate position latitude 39°21′00″ N, longitude 074°24′44″ W; thence southeast to approximate position latitude 39°20′50″ N, longitude 074°24′39″ W; thence southwest to approximate position latitude 39°20′35″ N, longitude 074°25′28″ W; thence northwest to the point of origin. These coordinates are based on World Geodetic System (WGS 84).

(b) Definitions. As used in this section—

Captain of the Port Representative or COTP Representative means a commissioned, warrant, or petty officer of the Coast Guard designated by name by the Captain of the Port to verify an event's compliance with the conditions of its approved permit.

Event Patrol Commander or Event PATCOM means a commissioned, warrant, or petty officer of the Coast Guard who has been designated by the respective Coast Guard Sector—Captain of the Port to enforce the regulations in paragraph (d) of this section.

Non-participant means a person, or a vessel not registered with the event sponsor either as a participant or an official patrol vessel.

Official patrol vessel or official patrol means any vessel assigned or approved by the respective Captain of the Port with a commissioned, warrant, or petty officer on board and displaying a Coast Guard ensign, or any state or local law enforcement vessel approved by the Captain of the Port in accordance with current local agreements.

Participant means any person or vessel registered with the event sponsor as participating in the event or otherwise designated by the event sponsor as having a function tied to the event.

Spectator area means an area bound by coordinates provided in latitude and longitude within the regulated area that outlines the boundary of an area reserved for non-participant vessels watching the event.

(c) Patrol of the marine event. The COTP may assign one or more official patrol vessels, as described in § 100.40, to the regulated event. The Event PATCOM will be designated to oversee the patrol. The patrol vessel and the Event PATCOM may be contacted on VHF-FM Channel 16. The Event PATCOM may terminate the event, or the operation of any vessel participating in the marine event, at any time if deemed necessary for the protection of life or property.

(d) Regulations. (1) Controls on vessel movement. The Event PATCOM or official patrol vessel may forbid and control the movement of all persons and vessels in the regulated area(s). When hailed or signaled by an official patrol vessel, the person or vessel being hailed must immediately comply with all directions given. Failure to do so may result in expulsion from the area, citation for failure to comply, or both.

(2) Directions, instructions, and minimum speed necessary. (i) The operator of a vessel in the regulated area must stop the vessel immediately when directed to do so by an official patrol vessel and then proceed only as directed.

(ii) A person or vessel must comply with all instructions of the Event PATCOM or official patrol vessel.

(iii) A vessel operator may request permission to enter and transit through a regulated area by contacting the Event PATCOM or official patrol vessel on VHF-FM channel 16. When authorized to transit through the regulated area, the vessel must proceed at the minimum speed necessary to maintain a safe course that minimizes wake near the event area.

(3) Spectator area. Non-participants are only allowed inside the regulated area if they remain within a designated spectator area or have authorization from the Event PATCOM or official patrol vessel to transit through the area. A non-participant vessel must be stationary or operate at a safe speed while within the designated spectator area. On scene official patrol vessels or the Event PATCOM will direct non-participant vessels to the spectator area. A non-participant must contact the Event PATCOM or official patrol vessel to request permission to pass through the regulated area. If permission is granted, the non-participant must pass directly through the regulated area at minimum speed necessary to maintain a safe course that minimizes wake and without loitering.

(4) Regulated area. Non-participants are only allowed inside the regulated area to pass through or enter and remain within a designated spectator area. A non-participant must contact the Event PATCOM or an official patrol vessel to request permission to either enter the spectator area or pass through the regulated area. If permission is granted, the non-participant may enter the spectator area or pass directly through the regulated area as instructed by the Event PATCOM or official patrol vessel at minimum speed necessary to maintain a safe course that minimizes wake and without loitering.

(5) Postponement or cancellation. The COTP, or Event PATCOM may postpone or cancel a marine event at any time if, in the COTP's sole discretion, the COTP determines that cancellation is necessary for the protection of life or property.

(e) Enforcement period. This section is subject to enforcement from 10 a.m. to 6 p.m. on June 8, 2025.

Dated: May 14, 2025.
Kate F. Higgins-Bloom,
Captain, U.S. Coast Guard, Captain of the Port, Sector Delaware Bay.

[FR Doc. 2025-09435 Filed 5-23-25; 8:45 am]

BILLING CODE 9110-04-P